DEPARTMENT OF EDUCATION

Final Extension of Project Period and Waiver for the State and Federal Policy Forum

AGENCY: Office of Special Education Programs, Office of Special Education and Rehabilitative Services, Department of Education.

ACTION: Notice of final extension of project period and waiver for the State and Federal Policy Forum for Program Improvement Center (CFDA No. 84.326F).

SUMMARY: The Secretary issues this notice to waive the requirements in the Education Department General Administrative Regulations, in 34 CFR 75.250 and 75.261(a) and (c), respectively, that generally prohibit project periods exceeding five years and extensions of project periods involving the obligation of additional Federal funds. The extension of project period and waiver enable the currently funded State and Federal Policy Forum for Program Improvement Center to receive funding from October 1, 2010 through September 30, 2011.

DATES: The extension of project period and waiver are effective September 14, 2010.

FOR FURTHER INFORMATION CONTACT: David Egnor, U.S. Department of Education, 550 12th St., SW., Room 4054, Potomac Center Plaza, Washington, DC 20202-2641. Telephone: (202) 245-7334.

If you use a telecommunications device for the deaf (TDD), call the Federal Relay Service (FRS), toll-free, at 1-800-877-8339.

SUPPLEMENTARY INFORMATION: The Department published a notice in the Federal Register (75 FR 44231) on July 28, 2010, proposing an extension of project period and a waiver in order to—

(1) Enable the Secretary to provide additional funds to the currently funded State and Federal Policy Forum for Program Improvement Center for an additional 12-month period, from October 1, 2010 through September 30, 2011; and

(2) Request comments on the proposed extension of project period and waiver.

There are no substantive differences between the notice of proposed extension of project period and waiver and this notice of final extension of project period and waiver.

Public Comment

We invited comments on the proposed extension of project period and waiver in the notice of proposed extension of project period and waiver. Seven parties submitted comments in agreement with the proposal to extend the grant period of the current grantee. We did not receive any comments opposing the proposed extension of project period and waiver. Generally, we do not address technical and other minor changes, as well as suggested changes the law does not authorize us to make. Moreover, we do not address comments that do not express views on the substance of the notice of proposed extension of project period and waiver.

Waiver of Delayed Effective Date

The Administrative Procedure Act requires that a substantive rule must be published at least 30 days before its effective date, except as otherwise provided for good cause (5 U.S.C. 553(d)(3)). No comments were received during the 15-day public comment period opposing the notice of proposed extension of project period and waiver, and we have not made any substantive changes to the extension and waiver. The Secretary has determined therefore that, to ensure a timely continuation grant to the entity affected, a delayed effective date is not required.

Background

On March 3, 2005, the Department published a notice in the Federal Register (70 FR 10374), inviting applications for new awards for fiscal year (FY) 2005 under the Technical Assistance and Dissemination to Improve Services and Results for Children with Disabilities (TA&D) program, authorized under section 663 of the Individuals with Disabilities Education Act (IDEA), to support a State and Federal Policy Forum for Program Improvement Center (Project Forum). Based on that notice, the Department made one award for a period of 60 months to the National Association of State Directors of Special Education to carry out Project Forum.

The purpose of Project Forum is to provide States, local educational agencies (LEAs), and Federal decision makers responsible for the implementation of the IDEA with access to valid statistics, research findings, policy analyses, and current information on trends in the provision of special education and related services and early intervention services. Specifically, Project Forum assists States and LEAs with the process of planning systemic changes that will promote improved early intervention, education, and transitional results for children with disabilities. Project Forum also provides the Office of Special Education Programs (OSEP) with a mechanism and resources for analyzing policies and emerging issues that are of significant national concern.

Project Forum's current project period is scheduled to end on September 30, 2010. We do not believe it would be in the public interest to hold new competitions under the TA&D program until the Department has considered changes being made to the Elementary and Secondary Education Act of 1965, as amended (ESEA), during the process of reauthorizing that law and the Department has developed a coordinated strategy for the provision of technical assistance that is designed to help States, LEAs, and schools effectively implement key provisions of the ESEA and IDEA and improve educational results for all students. We also have concluded that it would be contrary to the public interest to have a lapse in the provision of technical assistance provided under the TA&D program pending the reauthorization of ESEA. For these reasons, the Secretary waives the requirements in 34 CFR 75.250, which prohibit project periods exceeding five years, and the requirements in 34 CFR 75.261(a) and (c), which limit the extension of a project period if the extension involves the obligation of additional Federal funds, and issues a continuation award in the amount of $450,000 to the National Association of State Directors of Special Education (H326F050001) for an additional twelve-month period.

Waiving these regulations and issuing this continuation award ensure that continued technical assistance is available to assist Federal decision makers, States, and LEAs with systemic changes that will promote improved early intervention, education, and transitional results for children with disabilities, as the Department works on reauthorization of the ESEA and designs IDEA technical assistance competitions that are coordinated and aligned with the Department's technical assistance priorities.

During the next fiscal year, Project Forum will conduct the following activities:

(a) Identify, through contact with experts, research reviews, regular communication with State and local policy officials, and other types of needs assessments, the information that programs need to improve, both at the national, State, and local levels;

(b) Collect, organize, synthesize, interpret, and integrate information needed for program improvement using a variety of methods and formats such as surveys, interviews, brief case examinations, and meetings among special education administrators, outside experts, representatives of students with disabilities and their families, and others;

(c) Analyze emerging policy or program issues regarding the administration of special education, early intervention, and related services at the Federal, State, and local levels, and review, plan, and provide leadership in recommending multi-level actions that respond to emerging issues;

(d) Communicate, collaborate, and form partnerships as appropriate and as directed by OSEP, with technical assistance providers at the national and regional levels, including those that are part of the OSEP-supported special education technical assistance and dissemination network;

(e) Communicate regularly with OSEP to provide and receive information that may assist OSEP in improving its efficiency and effectiveness in administering IDEA;

(f) As a result of the activities associated with paragraphs (a) through (e), at a minimum—

(1) Complete three in-depth policy analyses;

(2) Prepare ten policy syntheses; and

(3) Convene one policy forum and write a proceedings document;

(g) Disseminate documents noted under paragraph (f) to a wide audience, including State and local directors of special education; and

(h) Maintain the project Web site.

Regulatory Flexibility Act Certification

The Secretary certifies that the extension of project period and waiver do not have a significant economic impact on a substantial number of small entities. The only entity affected is Project Forum.

Paperwork Reduction Act of 1995

The extension of project period and waiver do not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or computer diskette) on request to the contact person listed under FOR FURTHER INFORMATION CONTACT.

Electronic Access to This Document

You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: September 7, 2010.
Alexa Posny,
Assistant Secretary for Special Education and Rehabilitative Services.

[FR Doc. 2010-22880 Filed 9-13-10; 8:45 am]

BILLING CODE 4000-01-P